DEPARTMENT OF THE INTERIOR

Geological Survey

National Geospatial Advisory Committee

AGENCY: U.S. Geological Survey, Interior.

ACTION: Notice of renewal of National Geospatial Advisory Committee.

SUMMARY: In accordance with the Federal Advisory Committee Act of 1972, notice is hereby given that the Secretary of the Interior has renewed the National Geospatial Advisory Committee (Committee).

DATES: Comments regarding the renewal of this Committee must be submitted not later than March 7, 2018.

ADDRESSES: John Mahoney, U.S. Geological Survey, 900 First Avenue, Suite 800, Seattle, WA 98104.

FOR FURTHER INFORMATION CONTACT: John Mahoney, U.S. Geological Survey; phone: 206-220-4621; email: jmahoney@usgs.gov.

SUPPLEMENTARY INFORMATION: The Committee provides advice and recommendations to the Federal Geographic Data Committee (FGDC), through the FGDC Chair (the Secretary of the Interior or designee), related to the management of Federal geospatial programs, the development of the National Spatial Data Infrastructure (NSDI), and the implementation of Office of Management and Budget (OMB) Circular A-16 and Executive Order 12906. The Committee will review and comment upon geospatial policy and management issues and will provide a forum to convey views representative of non-Federal partners in the geospatial community.

Public Availability of Comments: Before including your address, phone number, email address, or other personal identifying information in your comments, you should be aware that your entire comment—including your personal identifying information—may be made publicly available at any time. While you can ask us in your comment to withhold your personal identifying information from public review, we cannot guarantee that we will be able to do so.

Certification: I hereby certify that the National Geospatial Advisory Committee is in the public interest in connection with the performance of duties imposed on the Department of the Interior by Office of Management and Budget (OMB) Circular A-16 (Revised), “Coordination of Geographic Information and Related Spatial Data Activities.”

Authority: 5 U.S.C. Appendix 2.

Ryan Zinke,
Secretary of the Interior.

[FR Doc. 2018-03295 Filed 2-16-18; 8:45 am]

BILLING CODE 4311-AM-P